DEPARTMENT OF ENERGY

Federal Energy Regulatory Commission

Combined Notice of Filings #1

Take notice that the Commission received the following electric corporate filings:

Docket Numbers: EC23-4-000.

Applicants: Bitter Ridge Wind Farm, LLC, Persimmon Creek Wind Farm 1, LLC, BGTF Zeus Holdings LLC.

Description: Joint Application for Authorization Under Section 203 of the Federal Power Act of Bitter Ridge Wind Farm, LLC, et al.

Filed Date: 10/6/22.

Accession Number: 20221006-5177.

Comment Date: 5 p.m. ET 10/27/22.

Take notice that the Commission received the following exempt wholesale generator filings:

Docket Numbers: EG23-5-000.

Applicants: RWE Renewables Americas, LLC.

Description: Baron Winds LLC submits Notice of Self-Certification of Exempt Wholesale Generator Status.

Filed Date: 10/7/22.

Accession Number: 20221007-5005.

Comment Date: 5 p.m. ET 10/28/22.

Take notice that the Commission received the following Complaints and Compliance filings in EL Dockets:

Docket Numbers: EL23-2-000.

Applicants: Pacific Gas and Electric Company.

Description: Petition for Declaratory Order of Pacific Gas and Electric Company.

Filed Date: 10/3/22.

Accession Number: 20221003-5359.

Comment Date: 5 p.m. ET 11/2/22.

Take notice that the Commission received the following electric rate filings:

Docket Numbers: ER20-1954-002.

Applicants: ITC Great Plains, LLC, Southwest Power Pool, Inc.

Description: Compliance filing: ITC Great Plains, LLC submits tariff filing per 35: ITC Great Plains, LLC Second Revised Order No. 864 Compliance Filing to be effective 1/27/2020.

Filed Date: 10/7/22.

Accession Number: 20221007-5091.

Comment Date: 5 p.m. ET 10/28/22.

Docket Numbers: ER22-469-002.

Applicants: Southwest Power Pool, Inc.

Description: Tariff Amendment: 1148R21 American Electric Power Service Corporation—Deficiency Response to be effective 12/1/2021.

Filed Date: 10/5/22.

Accession Number: 20221005-5133.

Comment Date: 5 p.m. ET 10/26/22.

Docket Numbers: ER22-643-002.

Applicants: Southwest Power Pool, Inc.

Description: Tariff Amendment: 3881SO Southwestern Power Admin & AEP OK—Deficiency Response to be effective 12/31/9998.

Filed Date: 10/5/22.

Accession Number: 20221005-5134.

Comment Date: 5 p.m. ET 10/26/22.

Docket Numbers: ER22-644-002.

Applicants: Southwest Power Pool, Inc.

Description: Tariff Amendment: 3882SO Southwestern Power Admin&Publ Ser—Deficiency Response to be effective 12/31/9998.

Filed Date: 10/5/22.

Accession Number: 20221005-5137.

Comment Date: 5 p.m. ET 10/26/22.

Docket Numbers: ER22-2660-001.

Applicants: Southwest Power Pool, Inc.

Description: Tariff Amendment: SPS Amended Formula Rate Revisions to Incorporate Changes Accepted in Er22-201 to be effective 5/19/2021.

Filed Date: 10/7/22.

Accession Number: 20221007-5017.

Comment Date: 5 p.m. ET 10/28/22.

Docket Numbers: ER22-2690-001.

Applicants: PPL Electric Utilities Corporation, PJM Interconnection, L.L.C.

Description: Tariff Amendment: PPL Services Corporation submits tariff filing per 35.17(b): PJM TOs Response to Deficiency Letter in ER22-2690 to be effective 10/19/2022.

Filed Date: 10/5/22.

Accession Number: 20221005-5140.

Comment Date: 5 p.m. ET 10/26/22.

Docket Numbers: ER23-32-000.

Applicants: Duke Energy Florida, LLC.

Description: Tariff Amendment: DEF-ECOGEN Notice of Cancellation of LGIA SA No. 180 to be effective 12/6/2022.

Filed Date: 10/6/22.

Accession Number: 20221006-5135.

Comment Date: 5 p.m. ET 10/27/22.

Docket Numbers: ER23-33-000.

Applicants: Tri-State Generation and Transmission Association, Inc.

Description: § 205(d) Rate Filing: Amendment to Rate Schedule FERC No. 13 to be effective 10/3/2022.

Filed Date: 10/6/22.

Accession Number: 20221006-5138.

Comment Date: 5 p.m. ET 10/27/22.

Docket Numbers: ER23-34-000.

Applicants: Pacific Gas and Electric Company.

Description: § 205(d) Rate Filing: LS Power Grid California LLC (Gates 500kV) IA (TO SA 447) to be effective 10/7/2022.

Filed Date: 10/6/22.

Accession Number: 20221006-5143.

Comment Date: 5 p.m. ET 10/27/22.

Docket Numbers: ER23-35-000.

Applicants: PJM Interconnection, L.L.C.

Description: § 205(d) Rate Filing: Original ISA/CSA, Service Agreement Nos. 6651/6652; Queue No. AG1-080 to be effective 9/7/2022.

Filed Date: 10/7/22.

Accession Number: 20221007-5011.

Comment Date: 5 p.m. ET 10/28/22.

Docket Numbers: ER23-36-000.

Applicants: PJM Interconnection, L.L.C.

Description: § 205(d) Rate Filing: Cost Responsibility Agreement, SA No. 6614; Non-Queue No. NQ-187 to be effective 9/12/2022.

Filed Date: 10/7/22.

Accession Number: 20221007-5014.

Comment Date: 5 p.m. ET 10/28/22.

Docket Numbers: ER23-37-000.

Applicants: PacifiCorp.

Description: § 205(d) Rate Filing: Deseret TSOA Rev 9 to be effective 12/7/2022.

Filed Date: 10/7/22.

Accession Number: 20221007-5034.

Comment Date: 5 p.m. ET 10/28/22.

Docket Numbers: ER23-38-000.

Applicants: Midcontinent Independent System Operator, Inc.

Description: § 205(d) Rate Filing: 2022-10-07_SA 3142 Termination of ITC Midwest-EDF Renewables E&P (J495) to be effective 10/8/2022.

Filed Date: 10/7/22.

Accession Number: 20221007-5039.

Comment Date: 5 p.m. ET 10/28/22.

Docket Numbers: ER23-39-000.

Applicants: Midcontinent Independent System Operator, Inc.

Description: § 205(d) Rate Filing: 2022-10-07_SA 3129 Termination of MidAmerican-Glaciers Edge Wind E&P (J506) to be effective 10/8/2022.

Filed Date: 10/7/22.

Accession Number: 20221007-5041.

Comment Date: 5 p.m. ET 10/28/22.

Docket Numbers: ER23-40-000.

Applicants: Midcontinent Independent System Operator, Inc., Otter Tail Power Company.

Description: § 205(d) Rate Filing: Midcontinent Independent System Operator, Inc. submits tariff filing per 35.13(a)(2)(iii: 2022-10-07_SA 3913 3914 OTP-NSP FCA & FSA (Forman-Canby-Fergus MPFP) to be effective 12/7/2022.

Filed Date: 10/7/22.

Accession Number: 20221007-5051.

Comment Date: 5 p.m. ET 10/28/22.

Docket Numbers: ER23-41-000.

Applicants: Duke Energy Business Services LLC, PJM Interconnection, L.L.C.

Description: Tariff Amendment: Duke Energy Business Services LLC submits tariff filing per 35.15: Notice of Termination of Amended and Restated IA, PJM SA No. 3137 to be effective 12/7/2022.

Filed Date: 10/7/22.

Accession Number: 20221007-5059.

Comment Date: 5 p.m. ET 10/28/22.

Take notice that the Commission received the following electric reliability filings:

Docket Numbers: RD22-5-000.

Applicants: North American Electric Reliability Corporation.

Description: Application of the North American Electric Reliability Corporation for approval of FAC-001-4 and FAC-002-4.

Filed Date: 6/14/22.

Accession Number: 20220614-5204.

Comment Date: 5 p.m. ET 10/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2022.
Debbie-Anne A. Reese,
Deputy Secretary.

[FR Doc. 2022-22350 Filed 10-13-22; 8:45 am]

BILLING CODE 6717-01-P